DEPARTMENT OF TRANSPORTATION

Federal Aviation Administration

Commercial Space Transportation Advisory Committee Working Group—Meeting Notice

AGENCY: Federal Aviation Administration (FAA), DOT.

ACTION: Notice of Commercial Space Transportation Advisory Committee Launch Operations and Support Working Group Telephone Conference.

SUMMARY: Pursuant to Section 10(a)(2) of the Federal Advisory Committee Act (Pub. L. 92-463, 5 U.S.C. App. 2), and 5 U.S.C. 552b(c), notice is hereby given of a telephone conference for the Launch Operations and Support Working Group of the Commercial Space Transportation Advisory Committee (COMSTAC). The agenda will include a report by the Working Group Chairperson, discussions on the commercial space launch programs for the National Aeronautics and Space Administration, and other updates on working group activities, and will take place on Tuesday, April 18, 2006, from 4 p.m. until 5:55 p.m., eastern daylight time. For the call-in telephone number and the passcode, contact the Contact Person listed below.

FOR FURTHER INFORMATION CONTACT: Brenda Parker (AST-100), FAA Office of Commercial Space Transportation (AST), 800 Independence Avenue, SW., Room 331, Washington, DC 20591, telephone (202) 267-3674; e-mail brenda.parker@faa.dot.gov.

Issued in Washington, DC, March 29, 2006.
Patricia G. Smith,
Associate Administrator for Commercial Space Transportation.

[FR Doc. E6-5052 Filed 4-6-06; 8:45 am]

BILLING CODE 4910-13-P